COMMITTEE FOR PURCHASE FROM PEOPLE WHO ARE BLIND OR SEVERELY DISABLED

Procurement List; Additions and Deletions

AGENCY: Committee for Purchase From People Who Are Blind or Severely Disabled.

ACTION: Additions to and Deletions From the Procurement List.

SUMMARY: This action adds to the Procurement List products and a service to be furnished by nonprofit agencies employing persons who are blind or have other severe disabilities, and deletes from the Procurement List products and services previously furnished by such agencies.

DATES: Effective Date: January 20, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Additions

On October 12, October 19 and October 26, 2007, the Committee for Purchase From People Who Are Blind or Severely Disabled published notice (72 FR 58051; 59251; 60796-60797) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and services to the Government.

3. There are no known regulatory alternatives which would accomplish the objectives of the Javits-Wagner-O'Day Act (41 U.S.C. 46-48c) in connection with the products and service proposed for addition to the Procurement List.

End of Certification

Accordingly, the following products and service are added to the Procurement List:

Products

Cable Assembly, Brake

NSN: 2590-01-265-3185—Parking (Rear Left).

Coverage: C-List for the requirements of the Defense Supply Center Columbus, Columbus, OH.

Control Assembly, Push-Pull

NSN: 2590-01-279-5714—Control Assembly, Push-Pull.

Coverage: C-List for the requirements of the Defense Supply Center Columbus, Columbus, OH.

NPA: Opportunities, Inc. of Jefferson County, Fort Atkinson, WI.

Contracting Activity: Defense Supply Center Columbus, Columbus, OH.

Hat Liners, Hoods & Booties

NSN: 8415-LL-DM1-0027—Cotton Knit Winter Liner.

NSN: 8415-LL-DM1-0076—Cloth Hood.

NSN: 8415-LL-DM1-0077—Cotton Canvas Overshoes.

NPA: Community Workshops, Inc., Boston, MA.

Coverage: C-List for the requirements of the Portsmouth Naval Shipyard, Portsmouth, NH.

Contracting Activity: Department of the Navy, Fleet Industrial Supply Center (FISC) Norfolk, Portsmouth Naval Shipyard, Portsmouth, NH.

Maintenance Record Holder

NSN: 8105-00-190-9824—Maintenance Record Holder.

NPA: Raleigh Lions Clinic for the Blind, Inc., Raleigh, NC.

Coverage: B-List for the broad Government requirements as specified by the General Services Administration.

Contracting Activity: General Services Administration, Region 2, Office Supply & Paper Products Acquisition Ctr, New York, NY.

Service

Service Type/Location: Base Supply Center, Defense Supply Center Richmond, 8000 Jefferson Davis Highway, Richmond, VA.

NPA: Virginia Industries for the Blind, Charlottesville, VA.

Contracting Activity: Defense Supply Center Richmond, Richmond, VA.

Deletions

On October 19 and October 26, 2007 the Committee for Purchase From People Who Are Blind or Severely Disabled published notice (72 FR 59252; 60797) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Cup, Disposable

NSN: 7350-00-761-7467—Cup, Disposable, 6 oz.

NSN: 7350-00-914-5088—Cup, Disposable, 10 oz.

NSN: 7350-00-914-5089—Cup, Disposable, 8 oz.

Cup, Disposable (Foam Plastic)

NSN: 7350-00-082-5741—Cup, Disposable (Foam Plastic), 8 oz.

NSN: 7350-00-145-6126—Cup, Disposable (Foam Plastic), 16 oz.

NSN: 7350-00-721-9003—Cup, Disposable (Foam Plastic), 6 oz.

NSN: 7350-00-926-1661—Cup, Disposable (Foam Plastic), 10 oz.

Lid, Plastic (Foam Cup)

NSN: 7350-01-485-7092—Lid, Plastic (Foam Cup), 6 oz.

NSN: 7350-01-485-7093—Lid, Plastic (Foam Cup), 10 oz.

NSN: 7350-01-485-7094—Lid, Plastic (Foam Cup), 8 oz.

NSN: 7350-01-485-7889—Lid, Plastic (Foam Cup), 16 oz.

NPA: The Oklahoma League for the Blind, Oklahoma City, OK.

Contracting Activity: General Services Administration, Southwest Supply Center, Fort Worth, TX.

Cup, Drinking, Styrofoam

NSN: M.R. 537—Cup, Drinking, Styrofoam, 8 oz., 51 ct.

NSN: M.R. 539—Cup, Drinking, Styrofoam, 16 oz., 18 ct.

NPA: The Oklahoma League for the Blind, Oklahoma City, OK.

Contracting Activity: Defense Commissary Agency (DeCA), Fort Lee, VA.

Protector and Sleeve Transparencies

NSN: 7510-01-483-9754—Transparency Protector, Flip-Frame with Pre-View.

NSN: 7510-01-484-0016—Sleeve, Transparency.

NSN: 7510-01-484-0019—Transparency Protector, Flip-Frame.

Transparency, Ink Jet

NSN: 7530-01-484-1753 .

NPA: Industries of the Blind, Inc., Greensboro, NC.

Contracting Activity: General Services Administration, Office Supplies & Paper Products Acquisition Ctr, New York, NY.

Services

Service Type/Location: Janitorial/Custodial, U.S. Department of Agriculture, Animal and Plant Health Inspection Service/PPQ, Asian Longhorn Beetle Project, 3920 N. Rockwell, Chicago, IL.

NPA: Habilitative Systems, Inc., Chicago, IL.

Contracting Activity: U.S. Department of Agriculture, Animal & Plant Health Inspection Service, Minneapolis, MN.

Service Type/Location: Janitorial/Custodial, Naval and Marine Corps Reserve Center, Eugene, OR.

NPA: Unknown.

Contracting Activity: Naval Facilities Engineering Command—Everett, Everett, WA

Kimberly M. Zeich, Service Type/Location:
Director, Program Operations.

[FR Doc. E7-24850 Filed 12-20-07; 8:45 am]

BILLING CODE 6353-01-P